ARCTIC RESEARCH COMMISSION

[USARC 07-029]

Notice of Meeting

AGENCY: United States Arctic Research Commission.

Notice is hereby given that the U.S. Arctic Research Commission will hold its 83rd meeting in Washington, DC on April 16-17, 2007. The Business Session, open to the public, will convene at 8:30 a.m. Monday, April 16, 2007 in Washington, DC. An Executive Session will follow adjournment of the Business Session.

The Agenda items include:

(1) Call to order and approval of the Agenda.

(2) Approval of the Minutes of the 82nd Meeting.

(3) Reports from Congressional Liaisons.

(4) Agency Reports.

The focus of the meeting will be reports and updates on programs and research projects affecting the Arctic.

Any person planning to attend this meeting who requires special accessibility features and/or auxiliary aids, such as sign language interpreters, must inform the Commission in advance of those needs.

Contact Person for More Information: John Farrell, Executive Director, U.S. Arctic Research Commission, 703-525-0111 or TDD 703-306-0090.

Dated: March 13, 2007.
John Farrell,
Executive Director.

[FR Doc. 07-1400 Filed 3-21-07; 8:45 am]

BILLING CODE 7555-01-M